NUCLEAR REGULATORY COMMISSION

Biweekly Notice; Applications and Amendments to Facility Operating Licenses Involving No Significant Hazards Considerations

I. Background

Pursuant to section 189a(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 20, 2007 to January 2, 2008. The last biweekly notice was published on December 31, 2007 (72 FR 74354).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007, (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/ requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system. A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Carolina Power & Light Company, Docket No. 50-261, H. B. Robinson Steam Electric Plant, Unit No. 2, Darlington County, South Carolina

Date of amendment request: November 29, 2007.

Description of amendment request: The proposed amendment would revise Technical Specification (TS) section 3.6.8, “Isolation Valve Seal Water (IVSW) System.” The proposed change revises Surveillance Requirements (SR) 3.6.8.2 and 3.6.8.6 related to IVSW tank volume and header flow rates. Specifically, the proposed change would clarify the wording of SR 3.6.8.2, and revise SR 3.6.8.6 to provide a total flow rate limit from all four headers in place of the individual header limits.

Basis for proposed no significant hazards consideration determination: As required by 10 CFR 50.91(a), the licensee has provided its analysis of the issue of no significant hazards consideration, which is presented below:

1. The Proposed Change Does Not Involve a Significant Increase in the Probability or Consequences of an Accident Previously Evaluated.

The proposed change is related to the Isolation Valve Seal Water System. This is a postaccident dose mitigating system and has no impact on the probability of an accident occurring. The proposed change to SR 3.6.8.2 is a clarification that does not impact the system design or operation. The proposed change to SR 3.6.8.6 revises the methodology used to establish the system flow limits, but maintains the same total flow limitation and consistency with the system design. Therefore, operation of the facility in accordance with the proposed amendment would not involve a significant increase in the probability or consequences of an accident previously evaluated.

2. The Proposed Change Does Not Create the Possibility of a New or Different Kind of Accident From Any Previously Evaluated.

The proposed change does not impact the design of the system and does not increase the potential for a failure that would result in an accident of a different kind.

Therefore, operation of the facility in accordance with the proposed amendment would not create the possibility of a new or different kind of accident from any previously evaluated.

3. The Proposed Change Does Not Involve a Significant Reduction in the Margin of Safety.

The proposed change does not revise the total leakage limit or the design requirements for the Isolation Valve Seal Water System. There is no impact on the capability of the containment as a fission product barrier.

Therefore, operation of the facility in accordance with the proposed amendment would not involve a significant reduction in the margin of safety.

The NRC staff has reviewed the licensee's analysis and, based on this review, it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Branch Chief: Thomas H. Boyce.

Dominion Nuclear Connecticut, Inc. (DNC), Docket No. 50-336, Millstone Power Station, Unit No. 2, New London County, Connecticut

Date of amendment request: March 28, 2007.

Description of amendment request: The proposed amendment would modify Technical Specification Surveillance Requirement 4.6.2.1.1.e to allow performance of testing for nozzle blockage to be based on the occurrence of activities that could potentially result in nozzle blockage rather than a fixed periodic basis. Currently, the testing for nozzle blockage is performed every 10 years. DNC proposes to change this frequency to “following maintenance that could cause nozzle blockage.”

Basis for proposed no significant hazards consideration determination: As required by 10 CFR 50.91(a), the licensee has provided its analysis of the issue of no significant hazards consideration, which is presented below:

Criterion 1:

Does the proposed amendment involve a significant increase in the probability or consequences of an accident previously evaluated?

Response: No.

The spray nozzles and the associated containment spray system are designed to perform accident mitigation functions only. The containment spray system and associated components are not considered as initiators of any analyzed accidents. The proposed change does not modify any plant equipment. The proposed change modifies the frequency for performance of a surveillance test which does not impact any failure modes that could lead to an accident. The proposed frequency change does not effect the ability of the spray nozzles or spray system to perform its accident mitigation function as assumed and therefore there is no effect on the consequence of any accident. Verification of no blockage continues to be required, but now as a function of activities that could result in blockage rather than an arbitrary surveillance frequency. Based on this discussion, the proposed amendment does not increase the probability or consequence of an accident previously evaluated.

Criterion 2:

Does the proposed amendment create the possibility of a new or different kind of accident from any accident previously evaluated?

Response: No.

The containment spray system is not being physically modified and there is no impact on the capability of the system to perform accident mitigation functions. No system setpoints are being modified and no changes are being made to the method in which borated water is delivered to the spray nozzles. The testing requirements imposed by this proposed change to check for nozzle blockage following activities that could cause nozzle blockage do not introduce new failure modes for the system. The proposed amendment does not introduce accident initiators or malfunctions that would cause a new or different kind of accident. Therefore, the proposed amendment does not create the possibility of a new or different kind of accident from any accident previously evaluated.

Criterion 3:

Does the proposed amendment involve a significant reduction in a margin of safety?

Response: No.

The proposed change does not change or introduce any new setpoints at which mitigating functions are initiated. No changes to the design parameters of the containment spray system are being proposed. No changes in system operation are being proposed by this change that would impact an established safety margin. The proposed change modifies the frequency for verification of nozzle operability in such a way that continued high confidence exists that the containment spray system will continue to function as designed. Therefore, based on the above, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Rope Ferry Road, Waterford, CT 06385.

NRC Branch Chief: Harold K. Chernoff.

Dominion Nuclear Connecticut Inc., et al., Docket No. 50-423, Millstone Power Station, Unit No. 3, New London County, Connecticut

Date of amendment request: July 13, 2007, as supplemented July 13, September 12, November 19, December 13, and December 17, 2007.

Description of amendment request: The proposed stretch power uprate (SPU) license amendment request would increase the unit's authorized core power level from 3,411 megawatts thermal (MWt) to 3,650 MWt, and make changes to Technical Specifications (TSs) and licensing bases as necessary to support operation at the stretch power level. The changes to TSs include the following: Definitions; TS 2.1.1.1, “Safety Limits;” TS Table 2.2-1, “Reactor Trip System Instrumentation Trip Setpoints, Functional Unit 12, Reactor Coolant Flow—Low;” TS Table 2.2-1, “Reactor Trip System Instrumentation Trip Setpoints, Functional Unit 18c, Power Range Neutron Flux, P-8;” TS Table 2.2-1, “Reactor Trip Instrumentation Trip Setpoints, Table Notations;” TS 3/4.2.3, “Reactor Coolant System Flow Rate and Nuclear Enthalpy Rise Hot Channel Factor;” TS 3/4.3.2, “Engineered Safety Features Actuation System Instrumentation;” TS 3/4.4.4.3, “Pressurizer;” TS 3/4.7.1, “Turbine Cycle;” TS 3/4.7.7, “Control Room Emergency Ventilation System;” TS 3/4.7.14, “Area Temperature Monitoring;” TS 3/4.9.13, “Spent Fuel Pool—Reactivity;” TS 5.6, “Fuel Storage Criticality;” TS 6.8.4.f, “Administrative Controls—Containment Leakage Rate Testing Program;” and TS 6.9.1.6, “Administrative Controls—Core Operating Limits Report.” The changes to the licensing bases include the following: Safety Grade Cold Shutdown; Branch Technical Position CMEB 9.5.1, sections 5.c.3 and 5.c.5—“Fire shutdown strategy for long-term steam generator inventory make-up;” and the demineralized water storage tank.

Basis for proposed no significant hazards consideration determination: As required by 10 CFR 50.91(a), the licensee has provided its analysis of the issue of no significant hazards consideration, which is presented below:

1. Do the proposed changes involve a significant increase in the probability or consequences of an accident previously evaluated?

Response: No.

The accident analyses documented in Chapter 6 and 15 of the FSAR [Final Safety Analysis Report] have been reanalyzed at the SPU [Stretch Power Uprate] conditions. For some accidents, credit has been taken for a number of minor modifications that will be installed in order to maintain analytical and operating margin. These minor modifications include the following:

• Installation of a Safety Injection Actuation Signal permissive for the charging injection isolation valves.

• Installation of an electronic filter on the T-hot temperature input into the Reactor Protection System and modification of the Over-temperature Delta T and Over-power Delta T reactor trip set points.

• Elimination of the automatic rod withdrawal capability for the rod control system.

• Installation of an automatic initiation of pressurized filtration mode of the Control Building ventilation system.

Technical Specifications (TS) changes, as appropriate, have been proposed to reflect the implementation of these modifications. The revised accident analyses have been performed with current state-of-the-art methodologies that have been generically approved by the NRC [Nuclear Regulatory Commission]. All restrictions and limitations of these methodologies, including those identified by the NRC, have been met in the application of these methodologies to the SPU accident analyses. The results of the accident analyses at SPU conditions together with the proposed modifications demonstrate that all design basis criteria are met and that the SPU does not result in a significant increase in the consequences of any previously evaluated accidents.

Analyses have been performed for operational transients that have identified some changes to control system set points. These changes assure that the control systems will respond and limit challenges to the Reactor Protection System (RPS) and Emergency Core Cooling System (ECCS) from routine operational transients, such as startup and shutdown. These changes assure that there will be no significant increase in probability of occurrence of an accident at SPU conditions.

Comprehensive evaluations of plant structures, systems and components (SSCs) have been performed and confirmed that all systems are capable of performing their intended design functions at uprated power conditions. Some Technical Specifications Surveillance Requirements have been revised to reflect SPU conditions and to reflect current generic TS standards. All systems will continue to be operated in accordance with design requirements under SPU conditions; therefore, no new components or system interactions have been identified that could lead to an increase in the probability of any accident previously evaluated in the Final Safety Analysis Report (FSAR).

The radiological consequence calculations were revised to reflect SPU conditions and the predicted releases from the revised accident analyses. All results continue to meet established regulatory limits and there is no significant increase in radiological consequences.

Therefore, the proposed changes do not result in a significant increase in the probability or consequences of an accident previously evaluated.

2. Do the proposed changes create the possibility of a new or different kind of accident from any accident previously evaluated?

Response: No.

Detailed evaluations of the configuration, operation, and accident response of the SSCs under SPU conditions and the associated proposed TS changes have been performed to confirm that all SSCs will perform as designed. Analyses of transient events have confirmed that no transient event results in a new sequence of events that could lead to a new accident scenario.

The effect of operation under SPU conditions on plant equipment has been evaluated. A failure modes and effect evaluation has been performed for the proposed new ECCS permissive for the charging injection valves. This has shown that the change does not create any new failure modes that could lead to a different kind of accident. Other minor plant modifications, to support implementation of SPU conditions, will be made to existing systems and components. These modifications provide added margin so that the SSCs will continue to perform their design function and no new safety-related equipment or systems will be installed which could potentially introduce new failure modes or accident sequences.

Based on this analysis, it is concluded that no new accident scenarios, failure mechanisms or limiting single failures are introduced as a result of the proposed changes. The proposed TS changes do not have an adverse effect on any aspect of safety.

Therefore, the proposed changes will not create the possibility of a new or different kind of accident from any accident previously evaluated.

3. Do the proposed changes involve a significant reduction in a margin of safety?

Response: No.

A comprehensive analysis was performed to support the power SPU program at MPS3 [Millstone Power Station, Unit No. 3]. This analysis identified and defined the major input parameters to the Nuclear Steam Supply System (NSSS), reviewed NSSS design transients, and reviewed the capabilities of the NSSS fluid systems, NSSS/BOP (balance-of-plant) interfaces, and NSSS and BOP components. The nuclear and thermal hydraulic performance of nuclear fuel was also reviewed to confirm acceptable results. Only minor plant modifications, to support implementation of SPU conditions, will be made to existing systems and components. Changes in set points for actuation of equipment provide added margin for performing the required safety functions and do not adversely affect the outcome of any postulated accident. The analysis indicated that all NSSS and BOP systems and components will continue to operate within existing design and safety limits under SPU conditions.

The margin of safety of the reactor coolant pressure boundary is maintained under SPU conditions. The design pressure of the reactor pressure vessel and reactor coolant system will not be challenged as the pressure mitigating systems were confirmed to be sufficiently sized to adequately control pressure under SPU conditions.

The radiological consequences were re-calculated at SPU conditions for Design Bases Accidents (DBAs) previously analyzed in the FSAR. The analysis showed that the radiological consequences of DBAs continue to meet established regulatory limits at SPU conditions.

The analyses supporting the SPU program have demonstrated that all systems and components are capable of safely operating at SPU conditions. All DBA acceptance criteria will continue to be met. Therefore, it is concluded that the proposed changes do not result in a significant reduction in the margin of safety.

Based on this review, the three standards of 10 CFR 50.92(c) are satisfied. Therefore, DNC determined that the amendment request involves no significant hazards consideration.

The NRC staff has reviewed the licensee's analysis and, based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Waterford, CT 06141-5127.

NRC Branch Chief: Harold K. Chernoff.

Virginia Electric and Power Company, Docket No. 50-339, North Anna Power Station, Unit 2, Louisa County, Virginia

Date of amendment request: December 5, 2007.

Description of amendment request: The amendments would revise Technical Specification (TS) 5.5.15, pertaining to the containment leak rate testing program. The TS change would permit a onetime 5-year exception to the 10-year frequency of the performance based leakage rate testing program for Type A tests, as required by Regulatory Guide (RG) 1.163. This one time exception to the RG 1.163 requirement would allow the next Type A test to be performed no later than October 9, 2014.

Basis for proposed no significant hazards consideration determination: As required by 10 CFR 50.91(a), the licensee has provided its analysis of the issue of no significant hazards consideration, which is presented below:

1. Does the proposed amendment involve a significant increase in the probability or consequences of an accident previously evaluated?

The proposed extension to Type A testing cannot increase the probability of an accident previously evaluated since extension of the containment Type A testing is no a physical plant modification that could alter the probability of accident occurrence nor, is an activity or modification by itself that could lead to equipment failure or accident initiation.

The proposed extension to Type A testing does not result in a significant increase in the consequences of an accident as documented in [NRC technical report designation (Nuclear Regulatory Commission)] NUREG-1493. The NUREG notes that very few potential containment leakage paths are not identified by Type B and C tests. It concludes that reducing the Type A testing frequency to once per twenty years leads to an imperceptible increase in risk.

North Anna provides a high degree of assurance through testing and inspection that the containment will not degrade in a manner detectable only by Type A testing. The last three Type A tests identified containment leakage within acceptance criteria, indicating a very leak-tight containment. Inspections required by the [American Society of Mechanical Engineers] ASME Code are also performed in order to identify indications of containment degradation that could affect leak-tightness. Separately, Type B and C testing, required by Technical Specifications, identifies any containment opening from design penetrations, such as valves, that would otherwise be detected by a Type A test. These factors establish that an extension to the North Anna Type A test interval will not represent a significant increase in the consequences of an accident.

2. Does the proposed license amendment create the possibility of a new or different kind of accident from any accident previously evaluated?

The proposed revision to North Anna Technical Specifications adds a one-time extension to the current interval for Type A testing. The current test interval of ten years, based on past performance, will be extended on a one-time basis to fifteen years from the last Type A test. The proposed extension to Type A testing does not create the possibility of a new or different type of accident since there are no physical changes being made to the plant and there are no changes to the operation of the plant that could introduce a new failure.

3. Does the proposed amendment involve a significant reduction in a margin of safety?

The proposed revision to North Anna Technical Specifications adds a one-time extension to the current interval for Type A testing. The current test interval of ten years, based on past performance, will be extended on a one-time basis to fifteen years from the last Type A test. RG 1.174 provides guidance for determining the risk impact of plant-specific changes to the licensing basis. RG 1.174 defines very small changes in risk as resulting in increases of [core damage frequency] CDF below 1E-6/yr and increases in [large early release fraction] LERF below 1E-7/yr. Since the Type A test does not impact CDF, the relevant criterion is LERF. The increase in LERF resulting from a change in the Type A test interval from a once-per-ten-years to a once-per-fifteen years is 1.58E-7/yr, based on internal events. RG 1.174 states that when the calculated increase in LERF is in the range of 1E-7/yr to 1E-6/yr, applications will be considered if it can be shown that the total LERF is less than 1E-5/yr.

Since the total LERF is 1.20E-6yr, the change is considered small and not a significant reduction in margin. Increasing the Type A test interval from ten to fifteen years is, therefore, considered non-risk significant and will not significantly reduce the margin of safety.

The NUREG-1493 generic study of the effects of extending containment leakage testing found that a 20-year extension in Type A leakage testing resulted in an imperceptible increase in risk to the public. NUREG-1493 found that, generically, the design containment leakage rate contributes about 0.1 percent of the overall risk and that decreasing the Type A testing frequency would have a minimal affect on this risk since 95% of the Type A detectable leakage paths would already be detected by Type B and C testing. Furthermore, for North Anna, maintaining the containment subatmospheric [pressure] during plant operations further reduces the risk of any containment leakage path going undetected.

The NRC staff has reviewed the licensee's analysis and, based on this review, it appears that the three standards of 50.92(c) are satisfied. Therefore, the NRC staff proposes to determine that the amendment request involves no significant hazards consideration.

Attorney for licensee: Lillian M. Cuoco, Esq., Senior Counsel, Dominion Resources Services, Inc., 120 Tredegar Street, RS-2, Richmond, VA 23219.

NRC Branch Chief: Evangelos C. Marinos.

Virginia Electric and Power Company, Docket No. 50-281, Surry Power Station, Unit No. 2, Surry County, Virginia

Date of amendment request: December 17, 2007.

Description of amendment request: The amendments would revise Technical Specification (TS) 4.4, pertaining to the containment leak rate testing program. The TS change would permit a one-time 5-year exception to the 10-year frequency of the performance based leakage rate testing program for Type A tests, as required by Regulatory Guide (RG) 1.163. This one time exception to the RG 1.163 requirement would allow the next Type A test to be performed no later than October 26, 2015.

Basis for proposed no significant hazards consideration determination: As required by 10 CFR 50.91(a), the licensee has provided its analysis of the issue of no significant hazards consideration, which is presented below:

1. Does the proposed amendment involve a significant increase in the probability or consequences of an accident previously evaluated?

The proposed extension to Type A testing cannot increase the probability of an accident previously evaluated since extension of the containment Type A testing is not a physical plant modification that could alter the probability of accident occurrence nor, is an activity or modification by itself that could lead to equipment failure or accident initiation.

The proposed extension to Type A testing does not result in a significant increase in the consequences of an accident as documented in [NRC technical report designation (Nuclear Regulatory Commission)] NUREG-1493. The NUREG notes that very few potential containment leakage paths are not identified by Type B and C tests. It concludes that reducing the Type A testing frequency to once per twenty years leads to an imperceptible increase in risk.

Surry provides a high degree of assurance through testing and inspection that the containment will not degrade in a manner detectable only by Type A testing. The last two Type A tests identified containment leakage within acceptance criteria, indicating a very leak-tight containment. Inspections required by the [American Society of Mechanical Engineers] ASME Code are also performed in order to identify indications of containment degradation that could affect leak-tightness. Separately, Type B and C testing, required by Technical Specifications, identifies any containment opening from design penetrations, such as valves, that would otherwise be detected by a Type A test. These factors establish that an extension to the Surry Type A test interval will not represent a significant increase in the consequences of an accident.

2. Does the proposed license amendment create the possibility of a new or different kind of accident from any accident previously evaluated?

The proposed revision to Surry Technical Specifications adds a one-time extension to the current interval for Type A testing. The current test interval of ten years, based on past performance, will be extended on a one-time basis to fifteen years from the last Type A test. The proposed extension to Type A testing does not create the possibility of a new or different type of accident since there are no physical changes being made to the plant and there are no changes to the operation of the plant that could introduce a new failure.

3. Does the proposed amendment involve a significant reduction in a margin of safety?

The proposed revision to Surry Technical Specifications adds a one-time extension to the current interval for Type A testing. The current test interval of ten years, based on past performance, will be extended on a one-time basis to fifteen years from the last Type A test. Regulatory Guide (RG) 1.174 provides guidance for determining the risk impact of plant-specific changes to the licensing basis. RG 1.174 defines small changes in risk as resulting in increases of [core damage frequency] CDF below 1E-5/yr and increases in [large early release fraction] LERF below 1E-6/yr. Since the Type A test does not impact CDF, the relevant criterion is LERF. The increase in LERF resulting from a change in the Type A test interval from a once-per-ten-years to a once-per-fifteen-years is 1.3E-7/yr, based on internal events. RG 1.174 states that when the calculated increase in LERF is in the range of 1E-7/yr to 1E-6/yr, applications will be considered if it can be shown that the total LERF is less than 1E-6/yr. Since the total LERF is 9.8E-7/yr, the change is considered small and not a significant reduction in margin. Increasing the Type A test interval from ten to fifteen years is, therefore, considered non-risk significant and will not significantly reduce the margin of safety.

The NUREG-1493 generic study of the effects of extending containment leakage testing found that a 20-year extension in Type A leakage testing resulted in an imperceptible increase in risk to the public. NUREG-1493 found that, generically, the design containment leakage rate contributes about 0.1 percent of the overall risk and that decreasing the Type A testing frequency would have a minimal effect on this risk since 95% of the Type A detectable leakage paths would already be detected by Type B and C testing. Furthermore, for Surry, maintaining the containment subatmospheric [pressure] during plant operations further reduces the risk of any containment leakage path going undetected.

The NRC staff has reviewed the licensee's analysis and, based on this review, it appears that the three standards of 50.92(c) are satisfied. Therefore, the NRC staff proposes to determine that the amendment request involves no significant hazards consideration.

Attorney for licensee: Lillian M. Cuoco, Esq., Senior Counsel, Dominion Resources Services, Inc., 120 Tredegar Street, RS-2, Richmond, VA 23219.

NRC Branch Chief: John Stang, Acting.

Virginia Electric and Power Company, Docket Nos. 50-338 and 50-339, North Anna Power Station, Unit Nos. 1 and 2, Louisa County, Virginia

Date of amendment request: December 17, 2007.

Description of amendment request: The amendments would revise Technical Specification (TS) 3.8.3, pertaining to the diesel fuel oil and starting air, to allow a one-time 14-day extension to the completion time (CT) allowed for an emergency diesel generator (EDG) diesel fuel storage tank taken out of service. The one-time extension is intended for each of the fuel oil storage tanks to permit removal of the current coating and recoat the storage tanks in preparation to use ultra-low sulfur diesel fuel oil as mandated by the United States Environmental Protection Agency.

Basis for proposed no significant hazards consideration determination: As required by 10 CFR 50.91(a), the licensee has provided its analysis of the issue of no significant hazards consideration, which is presented below:

1. Does the proposed license amendment involve a significant increase in the probability or consequences of an accident previously evaluated?

The proposed extension of the Completion Time for the EDG fuel oil storage tanks does not increase the probability of an accident previously evaluated since extension of the Completion Time does not physically modify the plant in a manner that could alter the probability of accident occurrence, nor is it an activity or modification by itself that could lead to equipment failure or accident initiation. [The] TS currently permit this planned inspection and repair activity and provide the appropriate actions to ensure an adequate supply of fuel oil is available during the planned maintenance activity. Therefore, the probability of an accident previously evaluated is not affected by the extended Completion Time.

The proposed extension of the Completion Time for the planned maintenance activities on the fuel oil storage tanks does not result in a significant increase in the consequences of an accident since adequate fuel oil remains available to permit EDG operation during a design basis accident [DBA].

2. Does the proposed license amendment create the possibility of a new or different kind of accident from any accident previously evaluated?

The proposed revision to North Anna TS permits one-time extension of the current 7-day Completion Time to 14-day for each fuel oil storage tank for planned maintenance activities. This proposed extension does not create the possibility of a new or different type of accident since there are no physical changes being made to the plant and there are no changes to the operation of the plant that could introduce a new failure. The existing TS actions ensure an adequate supply of fuel oil is available prior to the maintenance to support EDG operation during a DBA.

3. Does the proposed amendment involve a significant reduction in a margin of safety?

The proposed revision to North Anna Technical Specifications, which only permit a one-time extension to the current 7-day Completion Time for an inoperable fuel oil storage tank to 14 days, will not significantly reduce the margin of safety. RG 1.174 provides guidance for determining the risk impact of plant-specific changes to the licensing basis. The average annual increases in core damage frequency (CDF) and large early release frequency (LERF) resulting from the extended Completion Time for planned maintenance activities on the fuel oil storage tanks are 5.6E-8/yr and 8.4E-10/yr, respectively. RG 1.174 states that when the calculated increases in CDF and LERF are below 1E-5/yr and 1E-6/yr, respectively, applications will be considered when the total CDF and LERF are less than 1E-4/yr and 1E-5/yr, respectively. Since the total CDF and LERF for the proposed extended Completion Time meet these criteria for a permanent plant change, the change is considered small and not a significant reduction in margin. The one-time extension for planned maintenance activities on each fuel oil storage tank is, therefore, considered non-risk significant and will not significantly reduce the margin of safety.

The NRC staff has reviewed the licensee's analysis and, based on this review, it appears that the three standards of 50.92(c) are satisfied. Therefore, the NRC staff proposes to determine that the amendment request involves no significant hazards consideration.

Attorney for licensee: Lillian M. Cuoco, Esq., Senior Counsel, Dominion Resources Services, Inc., 120 Tredegar Street, RS-2, Richmond, VA 23219.

NRC Branch Chief: John Stang, Acting.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-289, Three Mile Island Nuclear Station, Unit 1 (TMI-1), Dauphin County, Pennsylvania

Date of application for amendment: June 29, 2007.

Brief description of amendment: The amendment revises the TMI-1 technical specifications, to reflect a change to the Reactor Building spray system buffering agent from sodium hydroxide to trisodium phosphate dodecahydrate.

Date of issuance: December 21, 2007.

Effective date: As of the date of issuance and shall be implemented on a schedule consistent with the licensee's commitments regarding Nuclear Regulatory Commission (NRC) Generic Letter 2004-02, or within 30 days of issuance, whichever is less.

Amendment No.: 263.

Facility Operating License No. DPR-50. Amendment revised the license and the technical specifications.

Date of initial notice in Federal Register: August 28, 2007 (72 FR 49569). The supplements dated October 19, 2007, and November 29, 2007, provided additional information that clarified the application, did not expand the scope of the application as originally noticed and did not change the NRC staff's original proposed no significant hazards determination. The Commission's related evaluation of the amendment is contained in a Safety Evaluation dated December 21, 2007.

No significant hazards consideration comments received: No.

Detroit Edison Company, Docket No. 50-341, Fermi 2, Monroe County, Michigan

Date of application for amendment: June 12, 2007, as supplemented by letter dated September 11, 2007.

Brief description of amendment: The amendment revised Technical Specification 3.7.4 to add an Action Statement for two inoperable control center air conditioning (AC) subsystems. The new Action Statement allows a finite time to restore one control center AC subsystem to operable status and requires verification every 4 hours that control room temperature is maintained < 90 degrees Fahrenheit.

Date of issuance: December 18, 2007.

Effective date: As of the date of issuance and shall be implemented within 60 days.

Amendment No.: 177.

Facility Operating License No. NPF-43: Amendment revised the Technical Specifications and License.

Date of initial notice in Federal Register: September 11, 2007 (72 FR 51854).

The supplemental letter contained clarifying information and did not change the initial no significant hazards consideration determination, and did not expand the scope of the original Federal Register notice.

The Commission's related evaluation of the amendment is contained in a Safety Evaluation dated December 18, 2007.

No significant hazards consideration comments received: No.

Duke Power Company LLC, Docket Nos. 50-269, 50-270, and 50-287, Oconee Nuclear Station, Units 1, 2, and 3, Oconee County, South Carolina

Date of application of amendments: January 4, 2007, supplemented November 19, 2007.

Brief description of amendments: The amendments revised the Technical Specifications by removing the gaseous radioactivity monitor.

Date of Issuance: December 19, 2007.

Effective date: As of the date of issuance and shall be implemented within 60 days from the date of issuance.

Amendment Nos.: 359, 361, 360.

Renewed Facility Operating License Nos. DPR-38, DPR-47, and DPR-55: Amendments revised the licenses and the technical specifications.

Date of initial notice in Federal Register: February 27, 2007 (72 FR 8802) The supplement dated November 19, 2007, provided additional information that clarified the application, did not expand the scope of the application as originally noticed, and did not change the staff's original proposed no significant hazards consideration determination. The Commission's related evaluation of the amendments is contained in a Safety Evaluation dated December 19, 2007.

No significant hazards consideration comments received: No.

Entergy Gulf States, Inc., and Entergy Operations, Inc., Docket No. 50-458, River Bend Station, Unit 1, West Feliciana Parish, Louisiana

Date of amendment request: May 29, 2007, as supplemented by letters dated August 30 and September 19, 2007.

Brief description of amendment: The amendment reflects the transfer of Facility Operating License No. NPF-47, to the extent formerly held by Entergy Gulf States, Inc. (EGS) and Entergy Operations, Inc. (EOI), for the River Bend Station, Unit 1 (RBS), which was approved by an Order dated October 26, 2007. The transfer is associated with the restructuring of EGS from a Texas corporation to a Louisiana limited liability company, Entergy Gulf States, Louisiana, LLC (EGS-LA). EOI will continue to operate RBS, and the proposed restructuring will not affect the technical or financial qualifications of EOI.

Date of issuance: December 31, 2007.

Effective date: At the time the transfer is completed.

Amendment No.: 158.

Facility Operating License No. NPF-47: The amendment revised the Facility Operating License.

Date of initial notice in Federal Register: July 9, 2007 (72 FR 37266). The supplements dated August 30 and September 19, 2007, provided additional information that clarified the application, did not expand the scope of the application as originally noticed in the Federal Register.

The Commission's related evaluation of the amendment is contained in a Safety Evaluation dated December 31, 2007.

No significant hazards consideration comments received: No.

Florida Power Corporation, et al., Docket No. 50-302, Crystal River Unit No. 3 Nuclear Generating Plant, Citrus County, Florida

Date of application for amendment: April 25, 2007, as supplemented by letters dated June 28, August 30, September 13, October 18, and November 1, 2007.

Brief description of amendment: The amendment increases the licensed core power level 1.6 percent to 2609 megawatts thermal. This increase will be achieved by the use of high-accuracy heat balanced instrumentation, including a Caldon Leading Edge Flowmeter CheckPlus™ ultrasonic flow measurement system, which allows for more accurate measurement of feedwater flow.

Date of issuance: December 27, 2007.

Effective date: Date of issuance, to be implemented within 60 days.

Amendment No.: 228.

Facility Operating License No. DPR-72: Amendment revises the Technical Specifications and Facility Operating License.

Date of initial notice in Federal Register: September 11, 2007 (72 FR 51862). The supplements dated August 30, September 13, October 18, and November 1, 2007, provided additional information that clarified the application, did not expand the scope of the application as originally noticed, and did not change the staff's original proposed no significant hazards consideration determination as published in the Federal Register. The Commission's related evaluation of the amendment is contained in a Safety Evaluation dated December 27, 2007.

No significant hazards consideration comments received: No.

FPL Energy Duane Arnold, LLC, Docket No. 50-331, Duane Arnold Energy Center, Linn County, Iowa

Date of application for amendment: July 20, 2007.

Brief description of amendment: The amendment modifies the technical specification (TS) by adding an action statement for two inoperable control boiling chiller (CBC) subsystems. The action statement allows 72 hours to restore one CBC subsystem to operable status and requires verification once every 4 hours that control building temperatures are maintained to be less than 90 degrees Fahrenheit. The amendment is consistent with TS Task Force (TSTF) Change Traveler TSTF-477, Revision 3.

Date of issuance: December 26, 2007.

Effective date: As of the date of issuance and shall be implemented within 60 days.

Amendment No.: 267.

Facility Operating License No. DPR-49: The amendment revised the Technical Specifications.

Date of initial notice in Federal Register: September 25, 2007 (72 FR 54472), as corrected on October 10, 2007 (72 FR 57606). The correction involved the misidentification of the licensee, not a technical issue.

The Commission's related evaluation of the amendment is contained in a Safety Evaluation dated December 26, 2007.

No significant hazards consideration comments received: No.

Nine Mile Point Nuclear Station, LLC, Docket No. 50-220, Nine Mile Point Nuclear Station, Unit No. 1, Oswego County, New York

Date of application for amendment: December 14, 2006, as supplemented by letters dated July 17, August 1, and September 19, 2007.

Brief description of amendment: The amendment revises the accident source term in the design basis radiological consequence analyses in accordance with Title 10 of the Code of Federal Regulations (10 CFR) Section 50.67. The revised accident source term revision replaces the methodology that is based on Technical Information Document (TID)-14844, “Calculation of Distance Factors for Power and Test Reactor Sites,” with the alternate source term methodology described in Regulatory Guide 1.183, “Alternative Radiological Source Terms for Evaluating Design Basis Accidents at Nuclear Power Reactors,” with the exception that TID-14844 will continue to be used as the radiation dose basis for equipment qualification and vital area access.

Date of issuance: December 19, 2007.

Effective date: As of the date of issuance to be implemented within 120 days.

Amendment No.: 194.

Renewed Facility Operating License No. DPR-63: Amendment revised the License and Technical Specifications.

Date of initial notice in Federal Register: March 13, 2007 (72 FR 11390). The supplements dated July 17, 2007, August 1, 2007, and September 19, 2007, provided additional information that clarified the application, did not expand the scope of the application as originally noticed, and did not change the Nuclear Regulatory Commission staff's initial proposed no significant hazards consideration determination.

The Commission's related evaluation of the amendment is contained in a Safety Evaluation dated December 19, 2007.

No significant hazards consideration comments received: No.

PPL Susquehanna, LLC, Docket No. 50-387 and 50-388, Susquehanna Steam Electric Station, Units 1 and 2 (SSES 1 and 2), Luzerne County, Pennsylvania

Date of application for amendments: June 7, 2007.

Brief description of amendments: The amendments delete section 2.G of Facility Operating License NFP-14 for SSES 1, which requires reporting of violations of the requirements in sections 2.C and 2.F of the facility operating license. The amendments also delete section 2.E of Facility Operating License NPF-22 for SSES 2, which requires reporting of violations of the requirements in section 2.C of the facility operating license. This change is in accordance with Nuclear Regulatory Commission (NRC)-approved Technical Specification Task Force (TSTF) change traveler TSTF-372, Revision 4.

Date of issuance: December 18, 2007.

Effective date: As of the date of issuance and to be implemented within 30 days.

Amendment Nos.: 244 and 222.

Facility Operating License Nos. NPF-14 and NPF-22: The amendments revised the License.

Date of initial notice in Federal Register: September 25, 2007 (72 FR 54478).

The Commission's related evaluation of the amendments is contained in a Safety Evaluation dated December 18, 2007.

No significant hazards consideration comments received: No.

PPL Susquehanna, LLC, Docket No. 50-387 and 50-388, Susquehanna Steam Electric Station, Units 1 and 2 (SSES 1 and 2), Luzerne County, Pennsylvania

Date of application for amendments: June 8, 2007.

Brief description of amendments: The amendments revise Limiting Condition for Operation 3.10.1, and the associated Bases, to expand its scope to include provisions for temperature excursions greater than 200 degrees Fahrenheit (°F), but less than 212 °F as a consequence of inservice leak and hydrostatic testing, and as a consequence of scram time testing initiated in conjunction with an inservice leak or hydrostatic test, while considering operational conditions to be in Mode 4 for SSES 1 and 2. This change is in accordance with Nuclear Regulatory Commission-approved Technical Specification Task Force (TSTF) change traveler TSTF-484, “Use of TS 3.10.1 for Scram Time Testing Activities.”

Date of issuance: December 20, 2007.

Effective date: As of the date of issuance and to be implemented within 30 days.

Amendment Nos.: 245 and 223.

Facility Operating License Nos. NPF-14 and NPF-22: The amendments revised the License and TSs.

Date of initial notice in Federal Register: September 25, 2007 (72 FR 54478).

The Commission's related evaluation of the amendments is contained in a Safety Evaluation dated December 20, 2007.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007, (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Entergy Gulf States, Inc., and Entergy Operations, Inc., Docket No. 50-458, River Bend Station, Unit 1, West Feliciana Parish, Louisiana

Date of amendment request: December 17, 2007.

Brief description of amendment: The amendment added a license condition to the Facility Operating License, for a one-time extension of Reactor Protection System Instrumentation Surveillance Requirement (SR) 3.3.1.1.8 concerning the calibration of Local Power Range Monitors. This license condition also includes actions to ensure continued compliance with the associated safety analysis and resolution of this condition as soon as possible. This extension will allow operation until Refuel Outage -14 and establishment of the necessary conditions following the outage to allow the calibration to be performed.

Date of issuance: December 21, 2007.

Effective date: As of the date of issuance and shall be implemented prior to the required due date for the SR 3.3.1.1.8.

Amendment No.: 157.

Facility Operating License No. NPF-47: The amendment revised the Facility Operating License. Public comments requested as to proposed no significant hazards consideration (NSHC):

No. The Commission's related evaluation of the amendment, finding of emergency circumstances, state consultation, and final NSHC determination are contained in a safety evaluation dated December 21, 2007.

Attorney for licensee: Terence A. Burke, Associate General Council—Nuclear Entergy Services, Inc., 1340 Echelon Parkway, Jackson, Mississippi 39213.

NRC Branch Chief: Thomas G. Hiltz.

Dated at Rockville, Maryland, this 7th day of January 2008.
For the Nuclear Regulatory Commission.
Catherine Haney,
Director, Division of Operating Reactor Licensing, Office of Nuclear Reactor Regulation.

[FR Doc. E8-421 Filed 1-11-08; 8:45 am]

BILLING CODE 7590-01-P